DEPARTMENT OF TRANSPORTATION

Federal Aviation Administration

14 CFR Part 39

[Docket No. 2000-NE-19-AD; Amendment 39-12792; AD 2002-13-04]

RIN 2120-AA64

Airworthiness Directives; Teledyne Continental Motors; Correction

AGENCY: Federal Aviation Administration, DOT.

ACTION: Final rule; correction.

SUMMARY: This document makes a correction to Airworthiness Directive (AD) 2000-NE-19 applicable to Teledyne Continental Motors O-300, IO-360, TSIO-360, and LTSIO-520-AE series reciprocating engines that was published in the Federal Register on June 27, 2002 (67 FR 43230). The superseded AD number was inadvertently omitted from the regulatory information, paragraph 2. of § 39.13 [Amended]. This document corrects that omission. In all other respects, the original document remains the same.

EFFECTIVE DATE: July 12, 2002.

FOR FURTHER INFORMATION CONTACT: Michael Downs, Aerospace Engineer, Chicago Aircraft Certification Office, FAA, 2300 East Devon Avenue, Des Plaines, IL 60018; telephone (847) 294-7870, fax (847) 294-7834.

SUPPLEMENTARY INFORMATION: A final rule; request for comments airworthiness directive FR Doc. 02-16174 applicable to Teledyne Continental Motors O-300, IO-360, TSIO-360, and LTSIO-520-AE series reciprocating engines, was published in the Federal Register on June 27, 2002 (67 FR 43230). The following correction is needed:

§ 39.13 [Corrected]

On page 43231, in the second column, § 39.13 Amended, paragraph 2. in the seventh line, “2000-NE-19-AD.” is corrected to read “2000-NE-19-AD. Supersedes AD 2000-11-51”.

Issued in Burlington, MA, on July 22, 2002.
Peter A. White,
Acting Manager, Engine and Propeller Directorate, Aircraft Certification Service.

[FR Doc. 02-19035 Filed 7-25-02; 8:45 am]

BILLING CODE 4910-13-U